DEPARTMENT OF DEFENSE

Department of the Navy

Notice of Intent To Prepare an Environmental Impact Statement/Overseas Environmental Impact Statement for Navy Atlantic Fleet Training in the Gulf of Mexico Range Complex and To Announce Public Scoping Meetings

AGENCY: Department of the Navy, DoD.

ACTION: Notice.

SUMMARY: Pursuant to section 102(2)(c) of the National Environmental Policy Act of 1969, as implemented by the Council on Environmental Quality regulations (40 CFR parts 1500-1508), and Executive Order 12114 (Environmental Effects Abroad of Major Federal Actions), the Department of the Navy (Navy) announces its intent to prepare an Environmental Impact Statement/Overseas Environmental Impact Statement (EIS/OEIS) to evaluate the potential environmental effects associated with naval training in the Gulf of Mexico (GOMEX) Range Complex. The Navy proposes to support current and emerging training operations and Research, Development, Testing, and Evaluation (RDT&E) activities at the GOMEX Range Complex by: (1) Maintaining baseline training and RDT&E operations at current levels; (2) increasing training and RDT&E operations from current levels as necessary to support the Fleet Readiness Training Plan (FRTP); (3) accommodating mission requirements associated with force structure changes, including those resulting from the introduction of new platforms (vessels, aircraft and weapons systems); and (4) implementing enhanced range complex capabilities.

The EIS/OEIS study area is the GOMEX Range Complex, which encompasses portions of the Gulf, as well as portions of the southeastern states of Florida, Alabama, Mississippi, Louisiana, and Texas. The GOMEX Range Complex consists of targets and instrumented areas, airspace, surface and subsurface operations areas (OPAREAs), and land range facilities. Together the GOMEX Range Complex encompasses: 15 square nautical miles (nm²) of land area; 43,390 nm² of special use airspace (SUA); 17,520 nm² of off-shore surface and subsurface OPAREA; and 12,072 nm² of shallow ocean area less than 100 fathoms (600 feet).

The scope of actions to be analyzed in this EIS/OEIS includes current and proposed future Navy training and RDT&E activities within Navy-controlled operating areas, airspace, and ranges. It also includes proposed Navy-funded range capabilities enhancements, including infrastructure improvements supporting range complex training and RDT&E activities. Training activities involving use of active sonar are conducted in the GOMEX Range Complex; however, those potential effects are being analyzed in detail in a separate document, the Atlantic Fleet Active Sonar Training (AFAST) EIS/OEIS. This separate sonar EIS/OEIS addresses active sonar use as a whole by the Atlantic Fleet in the western Atlantic Ocean and in the Gulf of Mexico. The analysis of the AFAST EIS/OEIS will be incorporated into the GOMEX Range Complex EIS/OEIS to account for active sonar effects that could occur within the geographic area of the GOMEX Range Complex.

DATES: Four public scoping meetings will be held. The meeting dates are:

1. Monday, September 24, 2007, 5 p.m.-8 p.m., Panama City, FL.

2. Tuesday, September 25, 2007, 5 p.m.-8 p.m., Pensacola, FL.

3. Wednesday, September 26, 2007, 5 p.m.-8 p.m., Kenner, LA.

4. Friday, September 28, 2007, 5 p.m.-8 p.m., Corpus Christi, TX 78401.

ADDRESSES: Four public scoping meetings will be held in Florida, Louisiana, and Texas to receive oral and/or written comments on environmental concerns that should be addressed in the EIS/OEIS. These public scoping open houses will be held at the following locations:

1. Monday, September 24, 2007, 5 p.m.-8 p.m., Gulf Coast Community College, 5230 West Highway 98, Panama City, FL 32401.

2. Tuesday, September 25, 2007, 5 p.m.-8 p.m., Pensacola Junior College (Warrington Campus), 5555 Highway 98 West, Pensacola, FL 32507.

3. Wednesday, September 26, 2007, 5 p.m.-8 p.m., Alfred Bonnabel High School, 2801 Bruin Drive, Kenner, LA 70065.

4. Friday, September 28, 2007, 5 p.m.-8 p.m., Holiday Inn-Emerald Beach Hotel, 1102 South Shoreline Boulevard, Corpus Christi, TX 78401.

FOR FURTHER INFORMATION CONTACT: Naval Facilities Engineering Command Southeast, Post Office Box 30 (Building 135 North, Ajax Street), Naval Air Station Jacksonville, Jacksonville, FL, 32212-0030, ATTN: Mr. Bob Riley (Code OPC5), telephone: 904-542-6125.

SUPPLEMENTARY INFORMATION: The Navy's mission is to maintain, train, and equip combat-ready naval forces capable of winning wars, deterring aggression and maintaining freedom of the seas. For that reason, Title 10 U.S.C. Section 5062 directs the Chief of Naval Operations to train all naval forces for combat. The Chief of Naval Operations meets that direction, in part, by conducting at-sea training exercises and ensuring naval forces have access to ranges, OPAREAs and airspace where they can develop and maintain skills for wartime missions and conduct RDT&E of naval weapons systems. As such, Navy ranges, OPAREAs, and airspace must be maintained and/or enhanced to accommodate necessary training and testing activities in support of national security objectives. The purpose of the proposed action is to achieve and maintain Fleet readiness using the GOMEX Range Complex to support current, emerging, and future training operations; RDT&E operations; expand warfare missions; and upgrade and modernize existing range capabilities to enhance and sustain Navy training and RDT&E.

The need for the proposed action is to provide range facilities for the training and equipping of combat capable naval forces ready to deploy worldwide. In this regard, the GOMEX Range Complex furthers the Navy's execution of roles and responsibilities under U.S.C Title 10, Section 5062. To implement this mandate, the Navy needs to: Maintain current levels of military readiness by training in the GOMEX Range Complex; accommodate future increases in operational training tempo in the GOMEX Range Complex and support rapid deployment of naval units or strike groups; achieve and sustain readiness of ships and squadrons so the Navy can quickly surge significant combat power in the event of a national crisis or contingency operation, and as is consistent with the FRTP; support acquisition and implementation into the Fleet of advanced military technology and testing and training needed for new platforms (vessels, aircraft and weapons systems); and maintain long-term viability of the GOMEX Range Complex while protecting human health and the environment, and enhancing the quality, communication capability, and safety of the GOMEX range complex.

Three alternatives will be evaluated in this EIS/OEIS: (1) The No Action Alternative is the continuation of current operations and support of existing range capabilities; (2) Alternative 1 consists of all elements of the No Action Alternative plus increased operational training, expanded warfare missions, accommodation of force structure changes, and implementation of enhancements, to the minimal extent possible to meet the components of the proposed action; and (3) Alternative 2 consists of all elements of Alternative 1 plus an additional increase in operational tempo and frequency of training events optimizing training in the GOMEX Range Complex in support of future contingencies, and better exploitation of the Joint National Training Capability (JNTC). Exploitation of the JNTC includes an increase in post Base Realignment and Closure Gulf-based F-18 and E-2 aircraft, and transient Navy participation in Navy and joint training opportunities afforded by proximity to DoD installations in the southeastern United States.

This EIS/OEIS will evaluate the environmental effects associated with: airspace; noise; range safety; natural land resources; water resources; air quality; biological resources, including threatened and endangered species; land use; socioeconomic resources; infrastructure; and cultural resources. The analysis will include an evaluation of direct and indirect impacts, and will account for cumulative impacts from other Navy activities in the GOMEX Range Complex. No decision will be made to implement any alternative until the EIS/OEIS process is completed and a Record of Decision is signed by the Assistant Secretary of the Navy (Installations and Environment).

The Navy is initiating the scoping process to identify community concerns and local issues to be addressed in this EIS/OEIS. Federal agencies, state agencies, local agencies, and interested persons are encouraged to provide oral and/or written comments to the Navy to identify specific issues or topics of environmental concern that should be addressed in the EIS/OEIS. Written comments must be postmarked by November 5, 2007 and should be mailed to: Naval Facilities Engineering Command Southeast, Post Office Box 30 (Building 135 North, Ajax Street), Naval Air Station Jacksonville, Jacksonville, FL 32212-0030, Attention: Mr. Bob Riley (Code OPC5), telephone: 904-542-6125. Comments can also be submitted no later than November 5, 2007 via the project Web site: http://www.GOMEXRangeComplexEIS.com.

Dated: August 23, 2007.
T. M. Cruz,
Lieutenant, Judge Advocate General's Corps, U.S. Navy, Federal Register Liaison Officer.

[FR Doc. E7-17360 Filed 8-30-07; 8:45 am]

BILLING CODE 3810-FF-P